ENVIRONMENTAL PROTECTION AGENCY

40 CFR Parts 86 and 600

[EPA-HQ-OAR-2005-0169; FRL-8257-5]

RIN 2060-AN14

Fuel Economy Labeling of Motor Vehicles: Revisions to Improve Calculation of Fuel Economy Estimates

Correction

In rule document 06-9749 beginning on page 77872 in the issue of Wednesday, December 27, 2006, make the following correction:

On page 77943, in the first column, in amendatory instruction 32, in the first line “§ 600.115-” should read “§ 600.115-08”.

[FR Doc. C6-9749 Filed 2-7-07; 8:45 am]

BILLING CODE 1505-01-D